DEPARTMENT OF THE INTERIOR

Fish and Wildlife Service

50 CFR Part 20

Service Regulations Committee Meeting

AGENCY: Fish and Wildlife Service, Interior.

ACTION: Notice of meeting.

SUMMARY: The Fish and Wildlife Service (hereinafter Service) will conduct an open meeting on January 27, 2005, to identify and discuss preliminary issues concerning the 2005-06 migratory bird hunting regulations.

DATES: The meeting will be held January 27, 2005.

ADDRESSES: The Service Regulations Committee will meet at the Arlington Square Building, U.S. Fish and Wildlife Service, 4401 North Fairfax Drive, Room 200 A/B, Arlington, Virginia.

FOR FURTHER INFORMATION CONTACT: Brian Millsap, Chief, Division of Migratory Bird Management, U.S. Fish and Wildlife Service, Department of the Interior, ms MBSP-4107-ARLSQ, 1849 C Street, NW., Washington, DC 20240, (703) 358-1714.

SUPPLEMENTARY INFORMATION: Representatives from the Service, the Service's Migratory Bird Regulations Committee, and Flyway Council Consultants will meet on January 27, 2005, at 8:30 a.m. to identify preliminary issues concerning the 2005-06 migratory bird hunting regulations for discussion and review by the Flyway Councils at their March meetings.

In accordance with Departmental policy regarding meetings of the Service Regulations Committee attended by any person outside the Department, these meetings are open to public observation. Members of the public may submit written comments on the matters discussed to the Director.

Dated: November 27, 2004.
Paul R. Schmidt,
Assistant Director, Migratory Birds, U.S. Fish and Wildlife Service.

[FR Doc. 04-27074 Filed 12-9-04; 8:45 am]

BILLING CODE 4310-55-P